DEPARTMENT OF COMMERCE

National Oceanic and Atmospheric Administration

Agency Information Collection Activities; Submission to the Office of Management and Budget (OMB) for Review and Approval; Comment Request; Seafood Inspection and Certification Requirements

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on May 25, 2021, during a 60-day comment period. This notice allows for an additional 30 days for public comments.

Agency: National Oceanic & Atmospheric Administration (NOAA), Commerce.

Title: Seafood Inspection and Certification Requirements.

OMB Control Number: 0648-0266.

Form Number(s): 89-800, 89-814, 89-819.

Type of Request: Regular submission (extension of a current information collection).

Number of Respondents: 1,012.

Average Hours per Response: Contract Completion, 5 minutes; Request for Service, 5 minutes; Label Approval, 1 hour; Appeals, 30 minutes; HACCP application new respondents, 60 hours; HACCP application current respondents, 40 hours.

Total Annual Burden Hours: 23,089.

Needs and Uses: This request is for the revision and extension of a current information collection.

The National Marine Fisheries Service (NMFS) operates the fee-for-service Seafood Inspection Program (SIP) under the authorities of the Agricultural Marketing Act of 1946, as amended, the Fish and Wildlife Act of 1956, and the Reorganization Plan No. 4 of 1970. The regulations for the SIP are contained in 50 CFR part 260. The SIP offers inspection, grading and certification services, including the use of official grade marks and statements which indicate that specific products have been federally inspected. The SIP is the only Federal entity which establishes quality grade standards for seafood marketed in the United States, and is the competent authority for the United States for issuing export health and catch certificates for seafood and certain other marine ingredients. Qualified participants are permitted to use SIP's official grade marks and statements on their products to facilitate the domestic and global trade of fishery products and other marine ingredients. Participation in the SIP is open to all segments of the seafood industry, from harvesters and growers to retailers. When inspection service is desired, participants are required to submit specific information pertaining to the type of service needed (§ 260.15). This includes the type of products to be inspected, the quantity, the location of the product, and the date when the inspection is needed. Customers complete the NOAA Form 89-814 Request for Inspection Services and submit it to their local inspection office via email or over the phone. There are also application requirements (i.e., a letter from the participant) if there is an appeal on previous service results (§ 260.36). Participants requesting regular inspection services on a contractual basis submit a contract using the NOAA Form 89-800 (§ 260.96). Any changes to the contract require a contract amendment, using the same form. When export or certain other forms of certification is desired, applicants are required to submit specific information regarding the consignment and the type of documents required, including details about the product, the shipper and the destination of the consignment, through an online portal system.

In July 1992, NMFS announced new inspection services, which were fully based on guidelines recommended by the National Academy of Sciences, known as Hazard Analysis Critical Control Point (HACCP). The information collection requirements fall under § 260.15 of the regulations. These guidelines require that a facility's quality control system have a written plan of the operation, identification of control points with acceptance criteria and a corrective action plan, as well as personnel identified with responsibility for oversight of the system.

Affected Public: Business or other for-profit organizations; Not-for-profit institutions; State, Local, or Tribal government.

Frequency: On occasion.

Respondent's Obligation: Required to obtain or maintain benefits.

Legal Authority: 7 U.S.C. 1621 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0266.

Sheleen Dumas,
Department PRA Clearance Officer, Office of the Chief Information Officer, Commerce Department.

[FR Doc. 2021-21503 Filed 10-1-21; 8:45 am]

BILLING CODE 3510-22-P